DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 1, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
New London County, Connecticut (All Jurisdictions)
Docket No.: FEMA-B-2180
Borough of Jewett City | Town Clerk's Office, 28 Main Street, Jewett City, CT 06351.
Town of Griswold | Town Clerk's Office, 28 Main Street, Griswold, CT 06351.
Town of Lisbon | Town Hall, 1 Newent Road, Lisbon, CT 06351.
Town of North Stonington | Town Clerk's Office, 40 Main Street, North Stonington, CT 06359.
Town of Preston | Town Hall, 389 Route 2, Preston, CT 06365.
Town of Voluntown | Town Hall, Town Clerk's Office, 115 Main Street, Voluntown, CT 06384.
Frederick County, Maryland and Incorporated Areas
Docket No.: FEMA-B-2103
City of Brunswick | City Annex, Planning and Zoning Department, 601 East Potomac Street, Brunswick, MD 21716.
City of Frederick | City Office Annex, Engineering Department, 140 West Patrick Street, 3rd Floor, Frederick, MD 21701.
Town of Burkittsville | Town Office, 500 East Main Street, Burkittsville, MD 21718.
Town of Emmitsburg | Planning and Zoning Department, 300A South Seton Avenue, Emmitsburg, MD 21727.
Town of Middletown | Municipal Center, 31 West Main Street, Middletown, MD 21769.
Town of Myersville | Town Hall, 301 Main Street, Myersville, MD 21773.
Town of New Market | Town Hall, 40 South Alley, New Market, MD 21774.
Town of Thurmont | Town Office, 615 East Main Street, Thurmont, MD 21788.
Town of Walkersville | Town Hall, 21 West Frederick Street, Walkersville, MD 21793.
Town of Woodsboro | Town of Woodsboro, Planning and Zoning Department, Winchester Hall, 12 East Church Street, Frederick, MD 21701.
Unincorporated Areas of Frederick County | Frederick County Planning and Zoning Department, 30 North Market Street, Frederick, MD 21701.
Village of Rosemont | Office of the Rosemont Burgess, 1219 Rosemont Drive, Rosemont, MD 21758.
Dent County, Missouri and Incorporated Areas
Docket No.: FEMA-B-2234
City of Salem | City Administration Building, 400 North Iron Street, Salem, MO 65560.
Unincorporated Areas of Dent County | Dent County Courthouse, 400 North Main Street, Salem, MO 65560.
Kanawha County, West Virginia and Incorporated Areas
Docket No.: FEMA-B-2227
Town of Clendenin | Town Hall, 103 1st Street, Clendenin, WV 25045.
Unincorporated Areas of Kanawha County | Office of the Floodplain Administrator, 407 Virginia Street East, 2nd Floor, Charleston, WV 25301.

[FR Doc. 2023-06275 Filed 3-24-23; 8:45 am]

BILLING CODE 9110-12-P